ENVIRONMENTAL PROTECTION AGENCY

40 CFR Part 52

[R01-OAR-2004-CT-0003; A-1-FRL-7777-4]

Approval and Promulgation of Air Quality Implementation Plans; Connecticut; Carbon Monoxide Maintenance Plan Updates; Limited Maintenance Plans

AGENCY: Environmental Protection Agency (EPA).

ACTION: Proposed rule.

SUMMARY: The EPA is proposing to approve a draft State Implementation Plan (SIP) revision submitted by the State of Connecticut. This draft revision will establish limited maintenance plans for the Hartford-New Britain-Middletown, the New Haven-Meriden-Waterbury, and the Connecticut Portion of the New York-Northern New Jersey-Long Island carbon monoxide attainment areas, and provide the ten-year update to these three carbon monoxide maintenance plans. EPA is parallel processing this draft SIP revision, for which the State of Connecticut scheduled a public hearing on June 17, 2004. This action is being taken under the Clean Air Act.

DATES: Written comments must be received on or before July 23, 2004.

ADDRESSES: Submit your comments, identified by Regional Material in EDocket (RME) ID Number R01-OAR-2004-CT-0003 by one of the following methods:

1. Federal eRulemaking Portal: http://www.regulations.gov. Follow the on-line instructions for submitting comments.

2. Agency Web site: http://docket.epa.gov/rmepub/ Regional Material in EDocket (RME), EPA's electronic public docket and comment system, is EPA's preferred method for receiving comments. Once in the system, select “quick search,” then key in the appropriate RME Docket identification number. Follow the on-line instructions for submitting comments.

3. E-mail: conroy.dave@epa.gov.

4. Fax: (617) 918-0661.

5. Mail: “RME ID Number R01-OAR-2004-CT-0003”, David B. Conroy, Acting Chief, Air Programs Branch, U.S. Environmental Protection Agency, EPA New England Regional Office, Office of Ecosystem Protection, One Congress Street, Suite 1100 (mail code CAQ), Boston, MA 02114-2023.

6. Hand Delivery or Courier: Deliver your comments to: David B. Conroy, Acting Chief, Air Programs Branch, U.S. Environmental Protection Agency, EPA New England Regional Office, Office of Ecosystem Protection, One Congress Street, 11th floor, (CAQ), Boston, MA 02114-2023. Such deliveries are only accepted during the Regional Office's normal hours of operation. The Regional Office's official hours of business are Monday through Friday, 8:30 to 4:30 excluding Federal holidays.

Instructions: Direct your comments to Regional Material in EDocket (RME) ID Number R01-OAR-2004-CT-0003. EPA's policy is that all comments received will be included in the public docket without change and may be made available online at http://docket.epa.gov/rmepub/, including any personal information provided, unless the comment includes information claimed to be Confidential Business Information (CBI) or other information whose disclosure is restricted by statute. Do not submit information that you consider to be CBI or otherwise protected through Regional Material in EDocket (RME), regulations.gov, or e-mail. The EPA RME website and the federal regulations.gov website are “anonymous access” systems, which means EPA will not know your identity or contact information unless you provide it in the body of your comment. If you send an e-mail comment directly to EPA without going through RME or regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the Regional Material in EDocket (RME) index at http://docket.epa.gov/rmepub/. Although listed in the index, some information is not publicly available, i.e., CBI or other information whose disclosure is restricted by statute. Certain other material, such as copyrighted material, is not placed on the Internet and will be publicly available only in hard copy form. Publicly available docket materials are available either electronically in RME or in hard copy at Office of Ecosystem Protection, U.S. Environmental Protection Agency, EPA New England Regional Office, One Congress Street, Suite 1100, Boston, MA. EPA requests that if at all possible, you contact the contact listed in the FOR FURTHER INFORMATION CONTACT section to schedule your inspection. The Regional Office's official hours of business are Monday through Friday, 8:30 to 4:30 excluding Federal holidays.

FOR FURTHER INFORMATION CONTACT: Donald O. Cooke, Air Quality Unit, U.S. Environmental Protection Agency, EPA New England Regional Office, Office of Ecosystem Protection, One Congress Street, Suite 1100 (CAQ), Boston, MA 02114-2023, telephone number (617) 918-1668, fax number (617) 918-0668, e-mail cooke.donald@epa.gov.

SUPPLEMENTARY INFORMATION:

I. General Information

A. How Can I Get Copies of This Document and Other Related Information?

In addition to the publicly available docket materials available for inspection electronically in Regional Material in EDocket, and the hard copy available at the Regional Office, which are identified in the ADDRESSES section above, copies of the State submittal and EPA's technical support document are also available for public inspection during normal business hours, by appointment at the State Air Agency. The Bureau of Air Management, Connecticut Department of Environmental Protection, State Office Building, 79 Elm Street, Hartford, CT 06106-1630.

B. What Should I Consider as I Prepare My Comments for EPA?

You may find the following suggestions helpful for preparing your comments:

1. Explain your views as clearly as possible.

2. Describe any assumptions that you used.

3. Provide any technical information and/or data you used that support your views.

4. If you estimate potential burden or costs, explain how you arrived at your estimate.

5. Provide specific examples to illustrate your concerns.

6. Offer alternatives.

7. Make sure to submit your comments by the comment period deadline identified.

8. To ensure proper receipt by EPA, identify the appropriate regional file/rulemaking identification number in the subject line on the first page of your response. It would also be helpful if you provided the name, date, and Federal Register citation related to your comments.

II. Rulemaking Information

The following outline is provided to aid in locating information in this preamble.

A. Background and Purpose

B. Criteria for Limited Maintenance Plan Designation

1. EPA Guidance

2. Emission Inventory

3. Demonstration of Maintenance

4. Monitoring Network and Verification of Continued Attainment

C. Contingency

D. State Commitments

E. Conformity

F. Parallel Processing

A. Background and Purpose

On May 11, 2004, the Connecticut Department of Environmental Protection (CT DEP) submitted a draft revision to its State Implementation Plan (SIP) for “Limited Maintenance Plans for the Hartford, the New Haven, and the Connecticut Portion of the New York/New Jersey/Connecticut Carbon Monoxide Maintenance Areas.” The revision consists of a second follow-on ten-year carbon monoxide maintenance plan for the Hartford-New Britain-Middletown Carbon Monoxide Attainment Area (period 2006 to 2015) and a request for a limited CO maintenance plan designation. The State of Connecticut also requested Limited Maintenance Plan approval and early approval of the second follow-on ten-year maintenance plans for both the New Haven-Meriden-Waterbury carbon monoxide attainment area (period 2009 to 2018), and the Connecticut Portion of the New York-Northern New Jersey-Long Island (period 2011 to 2020) carbon monoxide attainment area.

In the early 1990's EPA designated three 8-hour carbon monoxide nonattainment areas in Connecticut. These three areas are as follows:

(1) Hartford-New Britain-Middletown (Hartford) Nonattainment Area

Hartford County (part) * * * Bristol City, Burlington Town, Avon Town, Bloomfield Town, Canton Town, E. Granby Town, E. Hartford Town, E. Windsor Town, Enfield Town, Farmington Town, Glastonbury Town, Granby Town, Hartford City, Manchester Town, Marlborough Town, Newington Town, Rocky Hill Town, Simsbury Town, South Windsor Town, Suffield Town, West Hartford Town, Wethersfield Town, Windsor Town, Windsor Locks Town, Berlin Town, New Britain city, Plainville Town, and Southington Town.

Litchfield County (part) * * * Plymouth Town. Middlesex County (part) * * * Cromwell Town, Durham Town, E. Hampton Town, Haddam Town, Middlefield Town, Middletown City, Portland Town, E. Haddam Town.

Tolland County (part) * * * Andover Town, Bolton Town, Ellington Town, Hebron Town, Somers Town, Tolland Town, and Vernon Town.

(2) New Haven-Meriden-Waterbury (New Haven) Attainment Area

Fairfield County (part) * * * Shelton City.

Litchfield County (part) * * * Bethlehem Town, Thomaston Town, Watertown, Woodbury Town.

New Haven County (entire county).

(3) Connecticut Portion of the New York-Northern New Jersey-Long Island (Southwest Connecticut) Nonattainment Area

Fairfield County (part) * * * All cities and townships except Shelton City.

Litchfield County (part) * * * Bridgewater Town and New Milford Town.

The State of Connecticut developed state implementation plans to control carbon monoxide emissions through a number of federally mandated control programs as well as State-initiated control programs. These control measures resulted in the attainment of the National Ambient Air Quality Standard (NAAQS) for carbon monoxide. Section 107(d)(3)(E) of the 1990 Clean Air Act Amendments provides five specific requirements that an area must meet in order to be redesignated from nonattainment to attainment: (1) The area must have attained the applicable NAAQS; (2) The area must have a fully approved SIP under section 110(k) of CAA; (3) The air quality improvement must be permanent and enforceable; (4) The area must have a fully approved maintenance plan pursuant to section 175A of the CAA; (5) The area must meet all applicable requirements under section 110 and Part D of the CAA. Each of the three Connecticut carbon monoxide nonattainment areas individually satisfied the redesignation criteria and were redesignated to attainment. Please see Table 1 below:

Table 1.—Connecticut CO SIP Revisions
SIP Revision | EPA Effective Date | Federal Register citation | Initial Ten-Year Maintenance Period
Hartford Area Redesignation and Maintenance Plan | January 2, 1996 | May 14, 1996, 61 FR 24239; Correction, November 15, 1996, 61 FR 58487 | 1995-2005.
New Haven Area Redesignation and Maintenance Plan | December 4, 1998 | October 5, 1998, 63 FR 53282 | 1998-2008.
Southwest Connecticut Redesignation and Maintenance Plan | May 10, 1999 | March 10, 1999, 64 FR 12005 | 2000-2010.

Section 175A of the CAA sets forth the elements of a maintenance plan for areas seeking redesignation from nonattainment to attainment. The plan must demonstrate continued attainment of the applicable NAAQS for at least ten years after the Administrator approves a redesignation to attainment. Eight years after the redesignation, the state must submit a revised maintenance plan which demonstrates attainment for the ten years following the initial ten-year period.

B. Criteria for Limited Maintenance Plan Designation

1. EPA Guidance

For the Hartford, New Haven and Southwest Connecticut areas, CT DEP is proposing to utilize EPA's limited maintenance plan approach, as detailed in the EPA guidance memorandum, “Limited Maintenance Plan Option for Nonclassifiable CO Nonattainment Areas” from Joseph Paisie, Group Leader, Integrated Policy and Strategies Group, Office of Air Quality and Planning Standards (OAQPS), dated October 6, 1995, (the Paisie Memorandum). Pursuant to this approach, EPA will consider the maintenance demonstration satisfied for “not classified” areas if the monitoring data show the design value is at or below 7.65 parts per million (ppm), or 85 percent of the level of the 8-hour carbon monoxide CO NAAQS. The design value must be based on eight consecutive quarters of data. For such areas, there is no requirement to project emissions of air quality over the maintenance period. EPA believes if the area begins the maintenance period at, or below, 85 percent of the CO 8 hour NAAQS, the applicability of PSD requirements, the control measures already in the SIP, and Federal measures, should provide adequate assurance of maintenance over the initial 10-year maintenance period. In addition, the design value for the area must continue to be at or below 7.65 ppm until the time of final EPA action on the redesignation.

Current 2003 8-hour CO design values for each of Connecticut's CO maintenance areas are summarized in Table 2 below. Also listed are 2003 design values for the New York and New Jersey portions of the metropolitan New York City CO maintenance area. In all cases, current design values are significantly less than the 7.65 ppm threshold specified in EPA guidance, thus making each area potentially eligible for the limited maintenance plan option.

Table 2.—Current Design Values for Connecticut's CO Maintenance Areas
CO maintenance area | 2003 8-hour CO design value (ppm)
Metropolitan New York City Maintenance Area:
Southwest CT Portion | 3.2
New York Portion | 3.4
New Jersey Portion | 4.4
Hartford Maintenance Area | 5.2
New Haven Maintenance Area | 2.3

2. Emission Inventory

The maintenance plan must contain an attainment year emissions inventory to identify a level of emissions in the area which is sufficient to attain the CO NAAQS. This inventory is to be consistent with EPA's most recent guidance on emissions inventories for nonattainment areas available at the time and should represent emissions during the time period associated with the monitoring data showing attainment.

A Connecticut statewide carbon monoxide emission inventory was prepared for a typical winter weekday in the year 2002, a year in which attainment was monitored in all three Connecticut carbon monoxide attainment areas, and the 8-hour carbon monoxide design value was below the carbon monoxide limited maintenance plan criteria of 7.65 parts per million. This statewide inventory was composed of 20.8 tons per day from point sources, 817.9 tons per day from area sources, 422.2 tons per day from non-road sources, and 1,871.3 tons per day from highway sources for a total statewide winter day carbon monoxide emissions of 3,132 tons.

3. Demonstration of Maintenance

As described in the Paisie Memorandum, the maintenance demonstration requirement is considered to be satisfied for “not classified” CO areas if the design value for the area is equal to, or less than 7.65 ppm. As presented in Table 2 the CO design values are for all of these areas are well below 7.65 ppm.

As assurance of maintenance, the CT DEP has provided statewide projections of CO emissions in tons per day (tpd) from onroad mobile sources for the years 2015 and 2025 during the peak annual CO season to demonstrate that carbon monoxide levels continue to decline in the remainder of the first ten-year maintenance plan as well as in the sequential second ten-year maintenance plan.

CT DEP developed statewide winter-day CO emission estimates for 2002, 2015, and 2020, accounting for emissions from the various point, area, and non-road and highway categories. Point and area source emissions were estimated by applying population growth factors to 1999 emission estimates contained in Connecticut's 1999 periodic inventory. Estimates for the non-road and highway categories were developed using EPA's most recent versions of the draft NONROAD model (version 2002a dated June 2003) and MOBILE6.2 model (dated September 24, 2003), respectively. Connecticut-specific inputs for each model, including highway vehicle miles traveled (VMT) growth, are documented in Appendix B and Appendix C of the State submittal, respectively. Note that MOBILE6.2 inputs for 2015 and 2020 do not include reformulated gasoline (i.e., oxygenate effects are not modeled), vehicle emission testing, or the proposed adoption of California low emission vehicle program. Similarly, NONROAD model estimates for 2015 and 2020 do not include the oxygenate effects of reformulated gasoline or EPA's proposed new emission and fuel standards for non-road sources. As a result, 2015 and 2020 emission estimates are conservatively high for the purpose of clearly demonstrating that CO emissions will not likely increase for the duration of the maintenance periods.

Table 3.—Estimated Statewide Winter-Day CO Emission Levels in 2002, 2015, and 2020
Source category | 2002 (tons/day) | 2015 ¹ (tons/day) | 2020 ¹ (tons/day)
Point | 20.8 | 21.9 | 22.4
Area | 817.9 | 861.3 | 881.3
Non-road | 422.2 | 596.8 | 640.2
Highway | 1,871.3 | 1,263.4 | 1,196.1
Total | 3,132 | 2,743 | 2,740
¹ Highway emission projections for 2015 and 2020 do not include emission reductions from reformulated gasoline, vehicle emission testing, or the proposed adoption of California low emission vehicle standards. Non-road emission projections for 2015 and 2020 do not include the benefits of EPA's proposed non-road emission standards.

4. Monitoring Network and Verification of Continued Attainment

In the limited maintenance plan request, CT DEP committed to maintain a continuous CO monitoring network, meeting the requirements of 40 CFR part 58, that provides adequate coverage to verify continued compliance with the CO NAAQS in each CO maintenance area.

CT DEP will use data from the monitoring network to determine whether design values exceed the eligibility requirement of 7.65 ppm for each limited maintenance plan area. If design values in any maintenance area exceed 7.65 ppm, CT DEP will coordinate with EPA to: (1) Verify the validity of the data; (2) evaluate whether the data should be excluded based on an “exceptional event”; and, if warranted based on the data review; (3) develop a full maintenance plan for the affected maintenance area(s).

C. Contingency Plan

Section 175A(d) of the Act requires that a maintenance plan include contingency provisions, as necessary, to correct promptly any violation of the NAAQS that occurs after redesignation of the area. Under section 175A(d), contingency measures do not have to be fully adopted at the time of redesignation. However, the contingency plan is considered to be an enforceable part of the SIP and should ensure that the contingency measures are adopted expeditiously once they are triggered by a specified event.

CT DEP has developed a two-phase contingency plan to address any measured CO concentration, in any of the three maintenance areas, above the level of the NAAQS that meets quality assurance criteria and does not qualify for exclusion under EPA's “exceptional events” policy. Implementation of the contingency plan after the first verified CO exceedance is intended to provide an opportunity for corrective action before any NAAQS violations (i.e., a second CO exceedance in the same calendar year) can occur.

Subsequent to the verification of any measured exceedance of the CO NAAQS, the CT DEP will promptly analyze available air quality, meteorological, traffic, and other relevant data near the affected monitor to determine the likely cause of the exceedance. The CT DEP will confer with the appropriate officials at the CT DOT, regional planning agencies, and municipalities to determine if a local remedy (e.g., traffic signal changes, revised parking ordinances) is appropriate to avoid future exceedances of the standard. If such local actions are feasible and determined to be effective, CT DEP will work with the affected agencies to pursue implementation as soon as possible. If local actions are determined to be infeasible or ineffective, CT DEP will pursue the second-phase of the contingency plan.

The second phase of the contingency plan will be triggered if implementation of local corrective action is judged infeasible or ineffective (i.e., if another verified exceedance is recorded after the first phase actions are fully implemented). As part of the second-phase of the plan, CT DEP will evaluate whether any current or recently adopted (at the time of the exceedance) future control programs will provide adequate additional emission reductions to prevent future CO exceedances at the affected monitor. CT DEP will use EPA-approved modeling techniques available at the time of the exceedance (e.g., currently MOBILE6.2 for emission estimates) to estimate expected future emission reductions and determine the resulting effect at the monitor of concern.

D. State Commitments

EPA's guidance for limited maintenance plans also requires States to include several commitments as part of the SIP revision. To fulfill those requirements, CT DEP provides the following commitments, which will be in effect through the end of each area's second 10-year maintenance period, as described in Table 4.

Table 4.—Connecticut CO Maintenance Plan Time Periods
SIP revision | EPA effective date | Initial ten-year maintenance period | Second ten-year maintenance period
Hartford Area Redesignation and Maintenance Plan | January 2, 1996 | 1995-2005 | 2006-2015
New Haven Area Redesignation and Maintenance Plan | December 4, 1998 | 1998-2008 | 2009-2018
Southwest Connecticut Redesignation and Maintenance Plan | May 10, 1999 | 2000-2010 | 2011-2020

CT DEP will maintain a continuous CO monitoring network, meeting the requirements of 40 CFR Part 58, that provides adequate coverage to verify continued compliance with the CO NAAQS in each CO maintenance area.

CT DEP will use data from the monitoring network to determine whether design values exceed the eligibility requirement of 7.65 ppm for each limited maintenance plan area. If design values in any maintenance area exceed 7.65 ppm, CT DEP will coordinate with EPA to: (1) verify the validity of the data; (2) evaluate whether the data should be excluded based on an “exceptional event'; and, if warranted based on the data review, (3) develop a full maintenance plan for the affected maintenance areas.

CT DEP will continue to ensure that project-level CO evaluations of transportation projects (i.e., project-level conformity, as described in 40 CFR 93.116) in each area are carried out as part of environmental reviews or Connecticut's indirect source permitting program. CT DEP is currently considering modifications to the indirect source program, but anticipates any changes will require similar project-level CO reviews.

F. Conformity

Section 176(c) of the Act defines transportation conformity as conformity to the SIP's purpose of eliminating or reducing the severity and number of violations of the NAAQS and achieving expeditious attainment of such standards. The Act further defines transportation conformity to mean that no Federal transportation activity will: (1) cause or contribute to any new violation of any standard in any area; (2) increase the frequency or severity of any existing violation of any standard in any area; or (3) delay timely attainment of any standard or any required interim emission reductions or other milestones in any area. The Federal Transportation Conformity Rule, 40 CFR part 93 subpart A, sets forth the criteria and procedures for demonstrating and assuring conformity of transportation plans, programs and projects which are developed, funded or approved by the U.S. Department of Transportation, and by metropolitan planning organizations or other recipients of funds under title 23 U.S.C. or the Federal Transit Laws (49 U.S.C. chapter 53). The transportation conformity rule applies within all nonattainment and maintenance areas. As prescribed by the transportation conformity rule, once an area has an applicable State implementation plan with motor vehicle emissions budgets, the expected emissions from planned transportation activities must be consistent with (“conform to”) such established budgets for that area.

In the case of the Hartford, New Haven and Southwest Connecticut CO limited maintenance plan areas, however, the emissions budgets may be treated as essentially not constraining for the length of the initial maintenance period and second maintenance period as long as the area continues to meet the limited maintenance criteria, because there is no reason to expect that these areas will experience so much growth in that period that a violation of the CO NAAQS would result. In other words, emissions from on-road transportation sources need not be capped for the maintenance period because it is unreasonable to believe that emissions from such sources would increase to a level that would threaten the air quality in this area for the duration of this maintenance period. Therefore, for the limited maintenance plan CO maintenance area, all Federal actions that require conformity determinations under the transportation conformity rule are considered to satisfy the regional emissions analysis and “budget test” requirements in 40 CFR 93.118 of the rule.

Since limited maintenance plan areas are still maintenance areas, however, transportation conformity determinations are still required for transportation plans, programs and projects. Specifically, for such determinations, transportation plans, transportation improvement programs, and projects must still demonstrate that they are fiscally constrained (40 CFR part 108) and must meet the criteria for consultation and Transportation Control Measure (TCM) implementation in the conformity rule (40 CFR 93.112 and 40 CFR 93.113, respectively). In addition, projects in limited maintenance areas will still be required to meet the criteria for CO hot spot analyses to satisfy “project level” conformity determinations (40 CFR 93.116 and 40 CFR 93.123) which must incorporate the latest planning assumptions and models that are available. All aspects of transportation conformity (with the exception of satisfying the emission budget test) will still be required.

If one of the carbon monoxide attainment areas monitors carbon monoxide concentrations at or above the limited maintenance eligibility criteria or 7.65 parts per million then that maintenance area would no longer qualify for a limited maintenance plan and would revert to a full maintenance plan. In this event, the limited maintenance plan would remain applicable for conformity purposes only until the full maintenance plan is submitted and EPA has found its motor vehicle emissions budgets adequate for conformity purposes or EPA approves the full maintenance plan SIP revision. At that time regional emissions analyses would resume as a transportation conformity criteria.

E. Parallel Processing

The CT DEP has requested that EPA parallel process this proposed SIP revision. Under this procedure, EPA-New England Regional Office works closely with the CT DEP, the state air agency, while the state is developing new or revised regulations. The state submits a copy of its proposed regulation or other revisions to EPA before conducting its public hearing. EPA reviews this proposed State action, and prepares a notice of proposed rulemaking. EPA's notice of proposed rulemaking is published in the Federal Register during the same time frame that the State is holding its public hearing. The State and EPA then provide for concurrent public comment periods on both the State action and Federal action. After the State submits the formal SIP revision request (including a response to all public comments raised during the State's public participation process), EPA will prepare a final rulemaking notice. If the State of Connecticut's formal SIP submittal contains changes which occur after EPA's notice of proposed rulemaking, such changes must be described in EPA's final rulemaking action. If the State's changes are significant, then EPA must decide whether it is appropriate to re-propose the State's action.

III. Proposed Action

EPA is proposing to approve a draft State Implementation Plan (SIP) revision submitted by the State of Connecticut. This SIP revision will establish limited maintenance plans for the Hartford-New Britain-Middletown, the New Haven-Meriden-Waterbury, and the Connecticut portion of the New York-Northern New Jersey-Long Island carbon monoxide attainment areas, and provide the ten-year update to these three carbon monoxide maintenance plans. EPA is parallel processing this SIP revision.

EPA is soliciting public comments on the issues discussed in this proposal or on other relevant matters. These comments will be considered before EPA takes final action. Interested parties may participate in the Federal rulemaking procedure by submitting written comments to the EPA New England Regional Office listed in the ADDRESSES section of this action, or by submitting comments electronically, by mail, or through hand delivery/courier following the directions in the SUPPLEMENTARY INFORMATION, I. General Information section of this action.

Interested parties are also encouraged to participate in the concurrent State process by presenting oral or written testimony at the State of Connecticut's June 17, 2004 public hearing at 2 p.m. at the Connecticut Department of Environmental Protection, 5th Floor Holcombe Room. Written comments may also be submitted on or before 4:30 p.m. on June 17, 2004, to Connecticut Department of Environmental Protection, Bureau of Air Management, Planning and Standards Division, 5th Floor, 79 Elm Street, Hartford, Connecticut 06106-5127 during the State's comment period. For additional information on Connecticut's public participation process please contact Ms. Patricia Downes, Connecticut Department of Environmental Protection, Bureau of Air Management Planning and Standards Division, 5th Floor, 79 Elm Street, Hartford, Connecticut 06106-5127 at (860) 424-3027.

IV. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves State law as meeting Federal requirements and imposes no additional requirements beyond those imposed by State law. Accordingly, the Administrator certifies that this rule will not have a significant economic impact on a substantial number of small entities under the Regulatory Flexibility Act (5 U.S.C. 601 et seq.). Because this rule approves pre-existing requirements under State law and does not impose any additional enforceable duty beyond that required by State law, it does not contain any unfunded mandate or significantly or uniquely affect small governments, as described in the Unfunded Mandates Reform Act of 1995 (Public Law 104-4).

This rule also does not have tribal implications because it will not have a substantial direct effect on one or more Indian tribes, on the relationship between the Federal government and Indian tribes, or on the distribution of power and responsibilities between the Federal government and Indian tribes, as specified by Executive Order 13175 (65 FR 67249, November 9, 2000). This action also does not have federalism implications because it does not have substantial direct effects on the States, on the relationship between the national government and the States, or on the distribution of power and responsibilities among the various levels of government, as specified in Executive Order 13132 (64 FR 43255, August 10, 1999), because it merely approves a State rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve State choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.)

List of Subjects in 40 CFR Part 52

Environmental protection, Air pollution control, Carbon monoxide, Intergovernmental relations.

Authority: 42 U.S.C. 7401 et seq.

Dated: June 15, 2004.
Robert W. Varney,
Regional Administrator, EPA New England.

[FR Doc. 04-14219 Filed 6-22-04; 8:45 am]

BILLING CODE 6560-50-P